DEPARTMENT OF STATE

[Public Notice: 7192]

30-Day Notice of Proposed Information Collection: DS 4079, Request for Determination of Possible Loss of United States Citizenship, (No. 1405-0178)

ACTION: Notice of request for public comment and submission to OMB of proposed collection of information.

SUMMARY: The Department of State has submitted the following information collection request to the Office of Management and Budget (OMB) for approval in accordance with the Paperwork Reduction Act of 1995.

• Title of Information Collection: Request for Determination of Possible Loss of United States Citizenship.

• OMB Control Number: No. 1405-0178.

• Type of Request: Revision.

• Originating Office: Bureau of Consular Affairs, Overseas Citizens Services (CA/OCS).

• Form Number: DS-4079.

• Respondents: United States Citizens.

• Estimated Number of Respondents: 1,132.

• Estimated Number of Responses: 1,132.

• Average Hours Per Response: 15 minutes.

• Total Estimated Burden: 283 hours.

• Frequency: On Occasion.

• Obligation to Respond: Required to obtain or retain benefits.

DATES: Submit comments to the Office of Management and Budget (OMB) for up to 30 days from October 5, 2010.

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Derek A. Rivers, Bureau of Consular Affairs, Overseas Citizens Services (CA/OCS/PRI), U.S. Department of State, SA-29, 4th Floor, Washington, DC 20520, who may be reached on (202) 647-3117 or ASKPRI@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collection: The purpose of the DS-4079 questionnaire is to determine current citizenship status and the possibility of loss of United States citizenship. The information provided assists consular officers and the Department of State in determining if the U.S. citizen has lost his or her nationality by voluntarily performing an expatriating act with the intention of relinquishing United States nationality.

Methodology: The information is collected in person, by fax, or via mail. The Bureau of Consular Affairs is currently exploring options to make this information collection available electronically.

Dated: September 2, 2010.
James Pettit,
Managing Director, Overseas Citizens Services, Department of State.

[FR Doc. 2010-24992 Filed 10-4-10; 8:45 am]

BILLING CODE 4710-06-P